DEPARTMENT OF COMMERCE

Bureau of the Census

15 CFR Part 90

[Docket Number 0908171239-91239-01]

RIN 0607-AA49

Temporary Suspension of the Population Estimates and Income Estimates Challenge Programs

AGENCY: Bureau of the Census, Department of Commerce.

ACTION: Notice of proposed rulemaking; request for comments.

SUMMARY: This document provides notice to state and local governments and to federal agencies that, beginning on January 1, 2010, the Bureau of the Census (Census Bureau) proposes to temporarily suspend the Population Estimates Challenge Program and to indefinitely suspend the Per Capita Income Estimates Challenge Program (also known as Procedure for Challenging Certain Population and Income Estimates) during the decennial census year and the year following it to accommodate the taking of the 2010 Census. During this time, the Census Bureau would not provide the operations necessary to review the July 1, 2009, population or per capita income estimates for state, and other general-purpose governments, such as cities, towns, and villages. The Population Estimates Challenge Program is expected to resume in 2012 as the program begins operations based upon the results of the 2010 Census. The Per Capita Income Estimates Challenge Program would be suspended until a rulemaking can be initiated to remove those regulations from the Code of Federal Regulations.

DATES: Comments must be received by November 6, 2009.

ADDRESSES: Comments may be submitted through any of the following methods:

• Federal eRulemaking Portal: www.Regulations.gov

• Mail: Mr. Rodger Johnson, Population Division, Bureau of the Census, Washington, DC 20233.

FOR FURTHER INFORMATION CONTACT: Mr. Rodger Johnson, Population Division, Bureau of the Census, Washington, DC 20233, telephone (301) 763-2461, e-mail at rodger.v.johnson@census.gov.

SUPPLEMENTARY INFORMATION: The Census Bureau first adopted procedures for initiating informal challenges to certain population or per capita income estimates prepared by the Census Bureau in 1979 by amending Title 15 of the Code of Federal Regulations (CFR) to provide for a new Part 90 (44 FR 20646). These regulations were needed to standardize and codify procedures and to extend to the state or local government the right to a hearing prior to a final determination of the challenged estimate by the Director of the Census Bureau. Legal authority for the challenge procedures remains 13 U.S.C. 4, which provides in pertinent part, that the Secretary may issue rules and regulations as he deems necessary to carry out his functions and duties under Title 13.

The Census Bureau prepares estimates of total population and per capita income for states and units of local government for the period between decennial censuses. States, counties, and other units of general-purpose government may initiate informal challenges to population and per capita income estimates under the procedures set forth in 15 CFR Part 90. Under the regulations, a challenge is defined as “the process of objecting to or calling into question the Census Bureau's population or per capita income estimates of a state or unit of local government.” Government entities are given 180 days after the release of the population or per capita income estimates to initiate an informal challenge. If the challenge cannot be resolved informally, the government submitting the challenge can choose to file a formal challenge (15 CFR 90.9), which is resolved in a hearing that is held at the Census Bureau and presided over by a hearing officer that is appointed by the Census Bureau Director.

As is done for other intercensal programs, the Census Bureau hereby notifies the public that it proposes to suspend the Population Estimates Challenge Program after the resolution of all challenges to the 2008 population estimates, which should occur by January 1, 2010. The Census Bureau will release the 2009 population estimates in 2010, however, the Census Bureau would not accept challenges to the 2009 estimates.

The Population Estimates Challenge Program would resume in 2012 after the Census Bureau concludes its responsibilities in the conduct of the decennial census. During the period when the program is suspended, the Census Bureau will be conducting demographic analysis of the 2010 Census, evaluating the results of the 2010 Census in comparison with the population estimates, conducting research to enhance the estimates and challenge programs and integrating the updates from the 2010 Census into the estimates program after the 2010 Census.

After the conduct of the decennial census, the Census Bureau would resume accepting challenges to the population estimates by publishing in the Federal Register a notice that announces the date when it will begin to accept challenges. The Census Bureau would accept challenges beginning with the 2011 population estimates. The 2011 population estimates are based upon the 2010 Census and are scheduled for release in 2012.

Suspending the Population Estimates Challenge Program is a necessary action in order to ensure that sufficient resources are allocated to the conduct of the decennial census, allowing the Census Bureau's Population Division staff to effectively evaluate the 2010 census results.

In addition, the Census Bureau notifies the public that it will also suspend the Per Capita Income Estimates Challenge Program, which are codified in the same part as the Population Estimates Challenge Program. This program has not been active since the general revenue sharing program ended in 1986, along with its requirement for per capita income estimates, and thus it has been determined to suspend the program indefinitely. The Census Bureau will undertake a rulemaking action in the near future to remove these regulations from the Code of Federal Regulations.

Classification

Executive Order 12866: It has been determined that this notice is not significant for purposes of E.O. 12866.

Executive Order 13132: It has been determined that this notice does not contain policies with federalism implications as that term is defined in EO 13132.

Regulatory Flexibility Act: The Chief Counsel for Regulations certified to the Chief Counsel for Advocacy that this rule, if implemented, would not have a significant economic impact on a substantial number of small entities. The entities that would be impacted by this rule are all States, counties, and other units of general-purpose government. Section 601(5) of the Regulatory Flexibility Act defines small governmental jurisdictions as governments of cities, counties, towns, townships, villages, school districts, or special districts with a population of less than 50,000. Under this definition, the Census Bureau estimates that there are 37,204 general purpose governmental units impacted by this rule that would be considered small entities based upon the 2008 population estimates. Although a substantial number of small entities would be impacted by this rule, the proposed rule is not expected to result in significant economic impact. The suspension of the Population Estimates Challenge Program does not directly impose economic costs to the impacted entities, as the program is a mechanism to allow affected entities to seek corrections to their population estimates. The indirect impacts of this rulemaking are unknown as it is infeasible to identify the programs that rely on the population estimates and to determine which of those programs would avail themselves of the challenge program results. However, it is noted that the 2010 Census population counts will be available shortly thereafter for comprehensive use in various programs in lieu of the population estimates.

List of Subjects in 15 CFR Part 90

Administrative practice and procedure; Census data; State and local governments.

For reasons discussed in the preamble, the Census Bureau proposed to amend 15 CFR Part 90 as follows:

PART 90—PROCEDURE FOR CHALLENGING CERTAIN POPULATION AND INCOME ESTIMATES [AMENDED]

1. The authority citation for Part 90 continues to read as follows:

Authority: 13 U.S.C. 4.

2. Effective January 1, 2010, PART 90—PROCEDURE FOR CHALLENGING CERTAIN POPULATION AND INCOME ESTIMATES is stayed.

Dated: September 30, 2009.
Robert M. Groves,
Director, Bureau of the Census.

[FR Doc. E9-24164 Filed 10-6-09; 8:45 am]

BILLING CODE 3510-07-P